DEPARTMENT OF HEALTH AND HUMAN SERVICES

Administration for Children and Families

Office of Child Support Enforcement

AGENCY: Office of Child Support Enforcement, ACF, DHHS.

ACTION: Notice to award a sole-source discretionary grant.

CFDA#: 93.564.

Legislative Authority: Section 1115 of the Social Security Act [42 U.S.C.1315] provides funds and authority to award grants to State IV-D agencies for experimental, pilot, or demonstration projects.

Amount of Award: $703,000.00.

Project Period: September 30, 2008-February 27, 2010.

SUMMARY: A sole-source discretionary grant is being awarded to the Office of the Attorney General, Texas, to provide marriage and relationship education, parenting skills training, case management and home-visiting activities to unwed, new or expectant parents in Tom Green and Harris counties, Texas. The project will examine child support outcomes of families in the treatment and control groups from this project and from a previous project. This grant will also enable collection of data on child well-being outcomes, such as number of well-baby health visits, immunizations, home-safety (using a standardized checklist completed by a home visitor), child development (using the Ages and Stages Questionnaire, a standardized tool), and quality of the home environment.

FOR FURTHER INFORMATION CONTACT: Myles Schlank, Supervisory Program Specialist, Office of Child Support Enforcement, 370 L'Enfant Promenade, SW., Washington, DC 20047. Telephone: (202) 401-9329, e-mail: myles.schlank@acf.hhs.gov.

Dated: September 26, 2008.
Donna Bonar,
Deputy Commissioner, Office of Child Support Enforcement.

[FR Doc. E8-23310 Filed 10-2-08; 8:45 am]

BILLING CODE 4184-01-P